DEPARTMENT OF COMMERCE

National Oceanic and Atmospheric Administration

Agency Information Collection Activities; Submission to the Office of Management and Budget (OMB) for Review and Approval; Comment Request; Vessel Monitoring System Requirements for the Pacific Islands Fisheries

The Department of Commerce will submit the following information collection request to the Office of Management and Budget (OMB) for review and clearance in accordance with the Paperwork Reduction Act of 1995, on or after the date of publication of this notice. We invite the general public and other Federal agencies to comment on proposed and continuing information collections, which help us assess the impact of our information collection requirements and minimize the public's reporting burden. Public comments were previously requested via the Federal Register on May 7, 2020, during a 60-day comment period. This notice allows for an additional 30 days for public comments.

Agency: National Oceanic and Atmospheric Association (NOAA).

Title: Vessel Monitoring System Requirements for the Pacific Islands Fisheries.

OMB Control Number: 0648-0441.

Form Number(s): None.

Type of Request: Regular submission (extension of a current information collection).

Number of Respondents: 180.

Average Hours per Response: Observe initial installation—4 hours; Observe VMS replacement—2 hours; Observe VMS unit maintenance and repair—1.5 hours; Position reports—0 hours (automatic).

Total Annual Burden Hours: 170.

Needs and Uses: Owners of commercial fishing vessels in the Hawaii pelagic longline fishery, American Samoa pelagic longline fishery (only vessels longer than 50 feet), Northwestern Hawaiian Islands lobster fishery (currently inactive), and Northern Mariana Islands bottomfish fishery (only vessels longer than 40 feet) must allow the National Oceanic and Atmospheric Administration (NOAA) to install vessel monitoring system (VMS) units on their vessels when directed to do so by NOAA enforcement personnel. VMS units automatically send periodic reports on the position of the vessel. NOAA uses the reports to monitor the vessels' location and activities, primarily to enforce regulated fishing areas. NOAA pays for the units, installation, maintenance, and messaging. There is no public burden for the automatic messaging; however, the time required for VMS installation and annual maintenance are considered public burden.

Affected Public: Individuals or households; Business or other for-profit organizations.

Frequency: Hourly.

Respondent's Obligation: Mandatory.

Legal Authority: 50 CFR 665.16.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0441.

Sheleen Dumas,
Department PRA Clearance Officer, Office of the Chief Information Officer, Commerce Department.

[FR Doc. 2020-16631 Filed 7-30-20; 8:45 am]

BILLING CODE 3510-22-P